DEPARTMENT OF ENERGY

Federal Energy Regulatory Commission

[Docket No. HB28-14-1-000]

Notice of Application for Approval of Headwater Benefits Agreement, and Soliciting Comments, Motions To Intervene, and Protests: El Dorado Irrigation District and Sacramento Municipal Utility District

Take notice that the following hydroelectric application has been filed with the Commission and is available for public inspection:

a. Type of Application: Headwater Benefits Agreement.

b. Docket No.: HB28-14-1-000.

c. Date Filed: December 30, 2013.

d. Applicants: El Dorado Irrigation District and Sacramento Municipal Utility District.

e. Name of Projects: El Dorado Project No. 184 and Upper American River Project No. 2101 in the American River Basin.

f. Location: The El Dorado Project is located on the South Fork of the American River and its tributaries in El Dorado, Alpine, and Amador counties, California. The Upper American River Project is located on Rubicon River and tributaries, Silver Creek and tributaries, and South Fork of the American River, in El Dorado County, California.

g. Filed Pursuant to: Federal Power Act, 16 U.S.C. 791a, et seq. (2012); 18 CFR 11.14(a)(1) (2013); and 18 CFR 385.602 (2013).

h. Applicants' Contacts: Mr. Jacob Eymann, Senior Civil Engineer, El Dorado Irrigation District, 2890 Mosquito Road, Placerville, California 95667, (530) 642-4068, and Mr. David Hansen, Project Manager, Sacramento Municipal Utility District, 6201 S St., Sacramento, CA 95817, (916) 732-6703.

i. FERC Contact: Mr. Jeremy Jessup, (202) 502-6779, Jeremy.Jessup@ferc.gov.

j. Deadline for filing comments, motions to intervene, and protests, is 30 days from the issuance date of this notice by the Commission. The Commission strongly encourages electronic filing. Please file comments, motions to intervene, and protests using the Commission's eFiling system at http://www.ferc.gov/docs-filing/efiling.asp. Commenters can submit brief comments up to 6,000 characters without prior registration using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number HB28-14-1-000.

k. Description of Request: The applicants filed the agreement pursuant to 18 CFR 11.14(a) (2013), which provides that owners of downstream and headwater projects may negotiate a settlement for headwater benefits charges, and that such settlements must be filed with the Commission for its approval, according to the provisions of 18 CFR 385.602 (2013), which governs submission of settlement offers. The agreement provides for: (i) An annual payment of $30,000 (baselined for 2013 with payments subject to escalation in future years), and (ii) a one-time payment of $360,000 to compensate El Dorado Irrigation District for headwater benefits provided in years 2001 through 2012.

l. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659.

m. Individuals desiring to be included on the Commission's mailing list should so indicate by writing to the Secretary of the Commission.

n. Comments, Motions to Intervene, or Protests: Anyone may submit comments, a motion to intervene, or a protest in accordance with the requirements of 18 CFR 385.210, 385.211, and 385.214 (2013). In determining the appropriate action to take, the Commission will consider all protests or other comments filed, but only those who file a motion to intervene in accordance with the Commission's Rules may become a party to the proceeding. Any comments, motions to intervene, or protests must be received on or before the specified comment date for the particular application.

o. Filing and Service of Responsive Documents: Any filing must (1) bear in all capital letters the title “COMMENTS”, “MOTION TO INTERVENE, or “PROTEST”, as applicable; (2) set forth in the heading the name of the applicant and the docket number of the application to which the filing responds; (3) furnish the name, address, and telephone number of the person protesting or intervening; and (4) otherwise comply with the requirements of 18 CFR 385.2001-385.2005 (2013). All comments, motions to intervene, or protests must set forth their evidentiary basis and otherwise comply with the requirements of 18 CFR 4.34(b) (2013). All comments, motions to intervene, or protests should relate to project works which are the subject of the agreement. Agencies may obtain copies of the application directly from the applicant. A copy of any motion to intervene or protest must be served upon each representative of the applicants specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010 (2013).

Dated: April 2, 2014.
Kimberly D. Bose,
Secretary.

[FR Doc. 2014-08037 Filed 4-9-14; 8:45 am]

BILLING CODE 6717-01-P